DEPARTMENT OF AGRICULTURE

Animal and Plant Health Inspection Service

[Docket No. APHIS-2017-0074]

Supplemental Requirements for Importation of Fresh Citrus From Colombia Into the United States

AGENCY: Animal and Plant Health Inspection Service, USDA.

ACTION: Notice of affirmation of supplemental requirements.

SUMMARY: We are affirming the supplemental requirements we added for the importation of fresh sweet orange, grapefruit, mandarin, clementine, and tangerine fruit from Colombia into the United States. In a previous notice, we made available to the public for review and comment supplemental requirements for mitigating pest risks posed by the importation of those commodities from Colombia into the United States. We also made available a pest risk assessment and commodity import evaluation document. After reviewing the comments we received on those documents, we are affirming the supplemental requirements we added to the Fruits and Vegetables Import Requirements database.

DATES: These requirements were authorized for use on fresh sweet orange, grapefruit, mandarin, clementine, and tangerine fruit from Colombia beginning February 6, 2018.

FOR FURTHER INFORMATION CONTACT: Ms. Claudia Ferguson, Senior Regulatory Policy Specialist, Regulatory Coordination and Compliance, PPQ, APHIS, 4700 River Road, Unit 133, Riverdale, MD 20737-1236; (301) 851-2352.

SUPPLEMENTARY INFORMATION: Under the regulations in “Subpart L—Fruits and Vegetables” (7 CFR 319.56-1 through 319.56-12, referred to below as the regulations), the Animal and Plant Health Inspection Service (APHIS) of the United States Department of Agriculture (USDA) prohibits or restricts the importation of fruits and vegetables into the United States from certain parts of the world in an effort to prevent plant pests from being introduced into and spread within the United States.

Section 319.56-3, which includes general import requirements for fruits and vegetables, authorizes the importation of fresh sweet orange, grapefruit, mandarin, clementine, and tangerine fruit from Colombia into the United States.

On February 6, 2018, we published in the Federal Register (83 FR 5179-5181, Docket No. APHIS-2017-0074) a notice ¹ announcing our decision to supplement our requirements ² governing the importation of fresh sweet orange, grapefruit, mandarin, clementine, and tangerine fruit from Colombia into the United States and requested public comment on these changes. We also made available a pest risk assessment (PRA) and a commodity import evaluation document (CIED). The PRA evaluates the risks associated with the importation of fresh sweet orange, grapefruit, mandarin, clementine, and tangerine fruit from Colombia into the United States and the CIED lists the phytosanitary measures necessary to ensure its safe importation into the United States.

¹ To view the notice, the PRA, the CIED, and the comments we received, go to http://www.regulations.gov/#!docketDetail;D=APHIS-2017-0074.

² The supplemental requirements were added to the Fruits and Vegetables Import Requirements (FAVIR) database, located at https://epermits.aphis.usda.gov/manual/index.cfm?action=pubHome.

We solicited comments concerning the additional measures for 60 days ending April 9, 2018. We received six comments during the comment period. The commenters consisted of State governments, industry representatives, and the general public. We respond to the comments below.

General Comments

A few commenters stated concerns about the phytosanitary risk of importing fresh sweet orange, grapefruit, mandarin, clementine, and tangerine fruit from Colombia into the United States but did not address specific provisions of the notice. One such commenter stated that the risk mitigation measures listed in the notice are not stringent enough to mitigate the import risk of the 11 quarantine pests identified in the PRA.

APHIS believes that the import risk from the pests identified in the PRA will be adequately mitigated by the measures listed in the CIED. In addition, APHIS has used these and similar measures to mitigate risks successfully for pests from other countries in South America, including Argentina, Chile, Peru, and Uruguay.

Two other commenters, representing State governments, commented that their respective States have a range of climates and environments that magnify the risk of infestation from quarantine pests and recommended that APHIS not allow the resumption of imports of fresh citrus from Colombia.

APHIS acknowledges that several States have climates that are hospitable to plant pest infestations and infections. However, the mitigations of the CIED adequately address these risks.

Another commenter stated that we can grow citrus in the United States and should therefore encourage job production domestically.

Under the Plant Protection Act (7 U.S.C. 7701 et seq.), we have the authority to prohibit or restrict the importation of plants and plant products only when necessary to prevent the introduction into or dissemination of plant pests or noxious weeds within the United States. With respect to the commenter's point about encouraging domestic citrus production, we note that APHIS actively supports the domestic citrus industry through the Citrus Health Response Program and other initiatives.

Brevipalpus Chilensis and Other Mites

A few commenters expressed concerns about the risk to domestic citrus production posed by Brevipalpus chilensis and other mites entering the United States via the pathway of fresh sweet orange, grapefruit, mandarin, clementine, and tangerine fruit from Colombia.

B. chilensis is not present in Colombia. B. obovatus Donnadieu and B. phoenicis (Geijskes) are the two Brevipalpus species listed in the PRA because they are vectors of Citrus leprosis virus (CiLV). Both mite species are already present in the United States. APHIS is requiring specific measures in the CIED to mitigate the risk of Brevipalpus mites following the pathway of citrus. At the packinghouse, fruit must be washed and brushed and any damaged or diseased fruit culled. Fruit must be inspected for mites in Colombia by the Colombian national plant protection organization (NPPO). Fruit will also be inspected for mites by U.S. Customs and Border Protection (CBP) at the port of entry.

Moreover, Brevipalpus mites have limited capacity for movement. In order to transmit CiLV, the mites would have to feed on a susceptible part of the plant and acquire CiLV, move onto the fruit, survive washing and brushing, be transported to an area with suitable citrus hosts, and move from the fruit to the new host. It is highly unlikely that this combination of events would occur.

One commenter said that data was lacking to show that cold treatment kills all potential mites in transit. The commenter stated that B. chilensis has been shown to survive cold treatments on grapes from Chile.

The required cold treatment is intended to mitigate risk for fruit flies in the genera Anastrepha and Ceratitis. APHIS has not indicated that the treatment is a requirement for, or effective against, Brevipalpus mites. The packinghouse procedures referenced in the previous response will address mite risk.

The commenter also stated that the sieves used at U.S. ports to detect mites are not the correct size to detect immature stages of mites.

The commenter appears to be conflating the mitigation requirements for mites on citrus from Colombia with the systems approach mitigation for B. chilensis mites on fruit imported from Chile and Argentina. Sieving for mites is not part of the mitigation requirements proposed for Brevipalpus mites on Colombia citrus, nor is it used routinely at U.S. ports of entry.

A commenter requested proof showing that immature Brevipalpus mites associated with citrus will be detected through Colombian phytosanitary export protocols, and another stated that numerous mite species exist in Colombia, such as B. californicus, B. lewisi, and B. hondurani, with some never being evaluated as a possible vector for CiLV. The commenters asked that APHIS provide more analysis to show that mites will be adequately mitigated.

APHIS believes that the risk from mites and other pests identified in the PRA will be adequately mitigated by the measures listed in the CIED. In addition, APHIS has used these measures and other equivalent measures to mitigate risks for pests from other countries in South America including Argentina, Chile, Peru, and Uruguay. APHIS has not detected mites on commercial consignments of citrus from these countries since these measures were implemented.

Another commenter noted that the PRA includes field management practices to reduce the prevalence of B. obovatus and B. phoenicis during citrus crop production but does not consider or address mitigation measures, processes, or procedures during pre-harvest, postharvest, storage, or shipping.

The PRA states that it did not consider whether any production practices would be used to mitigate the risk of Brevipalpus mites. APHIS is requiring specific measures in the CIED to mitigate the risk of Brevipalpus mites following the pathway of citrus. At the packinghouse, fruit must be washed and brushed and any damaged or diseased fruit culled. Fruit must be inspected for mites in Colombia by the NPPO. CBP will inspect the citrus fruit for mites at the U.S. port of entry.

A commenter stated that the risk rating in the assessment of Brevipalpus should be changed from Low to Medium, noting that the mites are polyphagous, have multiple hosts, are subject to passive dissemination, and can be dispersed over large distances with the wind. The commenter stated that without adequate consideration, fresh fruit can vector the mites into the United States where they can become endemic in backyard citrus trees.

We note that the PRA currently lists the mites, as vectors for CiLV, as Medium for the risk of the mites following the pathway of commercial citrus from Colombia.

A commenter noted that the detection of a mite results in the dismissal of the entire lot for export consideration and asked why the field is not suspended from production until the scope of the pest population can be determined.

Should APHIS dismiss a lot for export consideration, we would not allow continued imports of citrus from the production site where the lot originated in Colombia to the United States until we are satisfied that such consignments will not subject the United States to an unacceptable level of pest risk.

Internal Feeders, Citrus Fruit Borer

Several commenters expressed concern about internal feeders following the pathway of fruit shipped from Colombia into the United States. Two such commenters stated that while scientific literature supports cold treatments designed for tephritid fruit flies, such treatments are ineffective for many species of Lepidoptera. The commenters asked that we provide evidence that this treatment effectively kills the citrus fruit borer.

The required cold treatment is intended to mitigate risk for fruit flies in the genera Anastrepha and Ceratitis. APHIS has not represented that the treatment is a requirement for, or effective against, Lepidoptera. APHIS has considered that for most Lepidoptera pests of fruit, inspection is a sufficient mitigation since these pests typically leave damage, frass (caterpillar excrement), and a conspicuous hole. These pests are typically removed by factors inherent in commercial production, including the requirement to produce high quality fruit for sale, culling, and inspection. APHIS has never intercepted these Lepidoptera pests in commercially produced citrus.

Two commenters stated that APHIS provided no data supporting fruit cutting as an effective method for detecting fruit flies and other internal feeders.

APHIS has not proposed that fruit cutting will be used as a standalone mitigation method for fruit flies. The inspection with a small portion of fruit cut is included to identify when high pest populations may be present that could potentially compromise a quarantine treatment. This type of inspection and the numbers used are common to many importation programs.

One commenter asked whether fruit cutting would be sustainable and effective if personnel designated by the NPPO of Colombia conduct the cutting. The commenter stated that commercial consignments from Morocco have failed under a similar systems approach.

Inspectors designated by the NPPO of Colombia have been trained in proper fruit cutting to sample for pests, and all citrus imported into the United States will be subject to additional cutting by CBP in accordance with 7 CFR part 305. With respect to the commenter's reference to pest issues in Morocco, APHIS did not identify fruit cutting in that country's export program as a contributing factor.

Site Visits

Two commenters representing State governments suggested to APHIS that a joint USDA/Florida/California site visit to Colombia be initiated to ensure that risk mitigation approaches are being executed effectively. The commenters opposed the entry of citrus from Colombia into their respective States until such a site visit is made.

APHIS is committed to a transparent process and an inclusive role for stakeholders in our risk analysis process and we respect the phytosanitary expertise of the State plant health personnel of Florida and California. However, we have not identified the need for additional site visits at this time to evaluate the implementation of the systems approach. Should such site visits occur, we will take the States' requests into consideration.

Regional Pests

A commenter stated that citrus dieback, citrus tristeza, alternaria brown spot, citrus canker, citrus black spot, and sweet orange scab exist in countries in proximity to Colombia production areas, and that Huanglongbing and Asian citrus psyllid exist within Colombia itself. The commenter asked APHIS to list insect vectors (other than Brevipalpus mite species) that transmit CiLV, as well as the distribution of such pests. The commenter also asked what disease and pathogen insect vector mitigation measures will be used to protect fresh citrus fruit as a pathway from introducing citrus pathogens and their insect vectors into the United States.

Citrus canker, citrus black spot, and sweet orange scab are not known to occur in Colombia. Although CiLV and Huanglongbing are known to exist in Colombia, citrus fruit is not a pathway of either of those pests in the absence of their insect vectors. The CIED specifies multiple packinghouse procedures for Brevipalpus; these procedures will also mitigate Asian citrus psyllid, vector of Huanglongbing.

Risk Documentation

A commenter stated that the documentation provided is incomplete for the resumption of citrus exports from Colombia. The commenter said that PRA appeared to be conducted in 2015 or early 2016, leaving stakeholders uninformed about the intervening 24 months. The commenter added that the proposal moves from a PRA to an operational workplan without a pest risk mitigation document (RMD) in the interim. The commenter stated that with no RMD and operational workplan to protect the industry and environment, there are missing pieces to this effort.

APHIS did not identify any new quarantine pests that could follow the pathway of citrus from Colombia since the PRA was completed; therefore, it is still accurate. The CIED was made available with the February 2018 Federal Register notice (see footnote 1) and provides the risk mitigation structure for the importation of citrus from Colombia. Operational workplans are documents that provide additional detail regarding day-to-day operations within an export program and can be updated as operational practices within the exporting country change.

Neosilba spp.

A commenter stated that the PRA risk rating should be High for the likelihood of establishment of Neosilba spp. as it poses a significant pest risk. The commenter referred APHIS to the Brazilian citrus PRA, which states: “the introduction of Neosilba into the continental United States is likely to result in significant increases in costs of production beyond normal fluctuations.” Another commenter questioned the effectiveness of fruit cutting as a dependable detection method for Neosilba spp. The commenter asked for details about how much fruit is being cut for detection of pests.

APHIS has never intercepted Neosilba spp. in commercial citrus. Given the PRA's medium risk rating and the lack of interceptions, APHIS believes that commercial production and inspection are adequate mitigation measures for this pest. APHIS believes that this pest is primarily an invader of overripe, damaged, fallen fruit, and fruit previously infested by tephritid fruit flies. In Brazil some studies have found Neosilba spp. to be a primary infesting agent, although some of those studies used dooryard citrus, not commercial fruit. Brazil is the only country where any publications showing damage from Neosilba spp. in citrus have been published.

Funding

A commenter asked how APHIS attains funding as part of this action, and whether a trust fund has been established or a Colombian or industry reimbursement is anticipated.

APHIS typically reserves trust funds for preclearance programs. Importation of citrus from Colombia does not include a preclearance program.

Therefore, for the reasons noted above, we are affirming our addition of supplemental requirements for the importation of sweet oranges, tangerines, grapefruit, clementines, and mandarins from Colombia into the United States. The requirements are listed in the FAVIR database, which is available by following the link in footnote 2.

Authority: 7 U.S.C. 1633, 7701-7772, and 7781-7786; 21 U.S.C. 136 and 136a; 7 CFR 2.22, 2.80, and 371.3.

Done in Washington, DC, this 20th day of March 2019.
Kevin Shea,
Administrator, Animal and Plant Health Inspection Service.

[FR Doc. 2019-05679 Filed 3-25-19; 8:45 am]

BILLING CODE 3410-34-P